NATIONAL SCIENCE FOUNDATION

Advisory Committee for International Science and Engineering; Notice of Meeting

In accordance with the Federal Advisory Committee Act (Pub. L. 92-463, as amended), the National Science Foundation (NSF) announces the following meeting:

Name and Committee Code: Advisory Committee for International Science and Engineering Meeting (AC-ISE) (#25104).

Date and Time: Friday, March 19, 2021, 10:00 a.m. to 5:00 p.m. (Eastern Time).

Place: NSF, 2415 Eisenhower Avenue, Alexandria, VA 22314 | Virtual Zoom.

This AC-ISE meeting is fully virtual. All public participants are required to process the meeting registration via Zoom.

Connect to The Virtual Meeting:Register in advance for the meeting at the Zoom attendee registration link: https://nsf.zoomgov.com/webinar/register/WN_IRrGAhXcRO2DvpdH7jAVjA. After registering, you will receive a confirmation email with a unique link to join the meeting.

If you have any login questions, please contact Kirk Grabowski, OISE IT Specialist: kgrabows@associates.nsf.gov.

Type of Meeting: Open.

Contact Person: Christopher Street, National Science Foundation, 2415 Eisenhower Avenue, Room W-17220, Alexandria, Virginia 22314; Telephone: (703) 292-8568/Email: cstreet@nsf.gov.

Purpose of Meeting: To provide advice, recommendations and counsel on major goals and policies pertaining to international programs and activities.

Agenda

• Updates on OISE activities

• Discussion on Global Leadership in Science, Engineering, and Education

• Innovative Partnerships

• Meet with NSF leadership

Dated: February 16, 2021.
Crystal Robinson,
Committee Management Officer.

[FR Doc. 2021-03389 Filed 2-18-21; 8:45 am]

BILLING CODE 7555-01-P